DEPARTMENT OF TRANSPORTATION

Federal Motor Carrier Safety Administration

[Docket No. FMCSA-2007-0057]

Agency Information Collection Activities; Revision of an Approved Information Collection: Designation of Agents, Motor Carriers, Brokers and Freight Forwarders

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval and invites public comment. The FMCSA requests approval to revise an ICR entitled, “Designation of Agents, Motor Carriers, Brokers and Freight Forwarders,” which is used to provide registered motor carriers, property brokers, and freight forwarders a means of meeting process agent requirements.

DATES: We must receive your comments on or before February 25, 2008.

ADDRESSES: You may submit comments identified by Federal Docket Management System (FDMS) Number FMCSA-2007-0057.

• Web Site: Go to http://www.regulations.gov. Follow the instructions for submitting comments on the Federal electronic docket site.

• Mail: Docket Management Facility; U.S. Department of Transportation, 1200 New Jersey Avenue, SE., Room W12-140, Washington, DC 20590-0001.

• Hand Delivery: Ground Floor, Room W12-140, DOT Building, 1200 New Jersey Avenue, SE., Washington, DC, between 9 a.m. and 5 p.m., e.t., Monday through Friday, except Federal Holidays.

• Fax: 1-202-493-2251.

Each submission must include the Agency name and the docket number for this Notice. Note that DOT posts all comments received without change to http://www.regulations.gov, including any personal information included in a comment. Please see the Privacy Act heading below:

Docket: For access to the docket to read background documents or comments received, go to http://www.regulations.gov at any time or Room W12-140 on the ground level, 1200 New Jersey Avenue, SE., Washington, DC, between 9 a.m. and 5 p.m., Monday through Friday, except Federal holidays. If you want acknowledgement that we received your comments, please include a self-addressed, stamped envelope or post card or print the acknowledgement page that appears after submitting on-line.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19477-78). This information is also available at http://docketsinfo.dot.gov.

FOR FURTHER INFORMATION CONTACT: Ms. Loretta G. Bitner, Commercial Enforcement (MC-ECC), Department of Transportation, Federal Motor Carrier Safety Administration, 1200 New Jersey Avenue, SE., Washington, DC 20590. Telephone: 202-385-2400.

SUPPLEMENTARY INFORMATION: Background: The Secretary of Transportation (Secretary) is authorized to register for-hire motor carriers of regulated commodities under the provisions of 49 U.S.C. 13902; freight forwarders under the provisions of 49 U.S.C. 13903; and property brokers under provisions of 49 U.S.C. 13904. These persons may conduct transportation services only if they are registered pursuant to 49 U.S.C. 13901. The Secretary has delegated authority pertaining to these registration requirements to the FMCSA.

Registered motor carriers (including private carriers) and freight forwarders must designate: (1) An agent on whom service of notices in proceedings before the Secretary may be made (49 U.S.C. 13303); and (2) for every State in which they operate and traverse in the United States during such operations, agents on whom process issued by a court may be served in actions brought against the registered transportation entity (49 U.S.C. 13304). Every broker shall make a designation for each State in which its offices are located or in which contracts are written. Regulations governing the designation of process agents are found at 49 CFR part 366. This designation is filed with the FMCSA on Form BOC-3, “Designation of Agent for Service of Process.”

Title: Designation of Agents, Motor Carriers, Brokers and Freight Forwarders.

OMB Control Number: 2126-0015.

Type of Request: Revision of a currently approved collection.

Respondents: Motor carriers, freight forwarders and brokers.

Estimated Number of Respondents: 89,000.

Estimated Time per Response: 10 minutes.

Expiration Date: April 30, 2008.

Frequency of Response: Form BOC-3 must be filed by all for-hire motor carriers and freight forwarders when the transportation entity first registers with the FMCSA. All brokers shall file Form BOC-3 as necessary and make a designation for each State in which it has an office or in which contracts are written. Subsequent filings are made only if the motor carrier, broker or freight forwarder changes process agents.

Estimated Total Annual Burden: 14,833 hours [89,000 Form BOC-3 filings per year × 10 minutes/60 minutes to complete form = 14,833 hours].

Public Comments Invited: We invite you to comment on any aspect of this information collection, including, but not limited to: (1) Whether the collection of information is necessary for the proper performance of the functions of the FMCSA, including whether the information is practical and useful; (2) the accuracy of the estimated burden; (3) ways to enhance the quality, usefulness, and clarity of the collected information; and (4) ways to minimize the collection burden without reducing the quality of the information collected. The agency will summarize or include your comments in the request for OMB's clearance of this information collection.

Issued on: December 12, 2007.
Terry Shelton,
Associate Administrator and Chief Information Officer, Office of Research and Information Technology.

[FR Doc. 07-6145 Filed 12-21-07; 8:45 am]

BILLING CODE 4910-EX-P